DEPARTMENT OF ENERGY

Office of Fossil Energy

[FE Docket Nos. 01-76-NG and 03-25-LNG]

Enron Canada Corp. and Duke Energy Marketing America, LLC; Orders Granting and Vacating Authority To Import and Export Natural Gas, Including Liquefied Natural Gas

AGENCY: Office of Fossil Energy, DOE.

ACTION: Notice of Orders.

SUMMARY: The Office of Fossil Energy (FE) of the Department of Energy gives notice that during June 2003, it issued Orders granting and vacating authority to import and export natural gas, including liquefied natural gas. These Orders are summarized in the attached appendix and may be found on the FE Web site at http://www.fe.doe.gov (select gas regulation), or on the electronic bulletin board at (202) 586-7853. They are also available for inspection and copying in the Office of Natural Gas & Petroleum Import & Export Activities, Docket Room 3E-033, Forrestal Building, 1000 Independence Avenue, SW., Washington, DC 20585, (202) 586-9478. The Docket Room is open between the hours of 8 a.m. and 4:30 p.m., Monday through Friday, except Federal holidays.

Issued in Washington, DC, on July 8, 2003.
Clifford P. Tomaszewski,
Manager, Natural Gas Regulation, Office of Natural Gas & Petroleum Import & Export Activities, Office of Fossil Energy.

Appendix—Orders Granting and Vacating Import/Export Authorizations
[DOE/FE Authority]
Order No. | Date issued | Importer/exporter FE docket No. | Import volume | Export volume | Comments
1745-A | 6-18-03 | Enron Canada Corp. 01-76-NG |  |  | Vacate blanket import and export authority.
1872 | 6-30-03 | Duke Energy Marketing America, LLC 03-25-LNG | 900 Bcf |  | Import and export natural gas, including liquefied natural gas (LNG), from and to Canda and Mexico, and to import LNG from other international sources. The term of the authority is from July 1, 2003, and extending through June 30, 2005.

[FR Doc. 03-17973 Filed 7-15-03; 8:45 am]

BILLING CODE 6450-01-P